DEPARTMENT OF TRANSPORTATION

Federal Railroad Administration

49 CFR Part 228

[Docket No. FRA-2012-0101]

RIN 2130-AC41

Hours of Service Recordkeeping; Automated Recordkeeping; Correction

AGENCY: Federal Railroad Administration (FRA), Department of Transportation (DOT).

ACTION: Correcting amendment.

SUMMARY: On August 29, 2018, FRA published a final rule to reduce the paperwork burden associated with compliance with Federal hours of service laws and regulations. In preparing that final rule for publication, a technical error was made as described in the Supplementary Information. FRA is correcting this minor error so that the final rule clearly conforms to FRA's intent.

DATES: Effective on September 17, 2018.

FOR FURTHER INFORMATION CONTACT: Emily T. Prince, Attorney-Adviser, Office of Chief Counsel, FRA, 1200 New Jersey Avenue SE, Washington, DC 20590 (telephone 202-493-6146), emily.prince@dot.gov.

SUPPLEMENTARY INFORMATION: In the final rule, FRA failed to include an instruction amending 49 CFR 228.201 to include new paragraph (c). See 83 FR 43988. Paragraph (c) was discussed in the section-by-section analysis and properly published as new rule text, but was not properly included in an amendatory instruction. This correction remedies that oversight to ensure that the codified text of the section matches the text FRA intended.

List of Subjects in 49 CFR Part 228

Administrative practice and procedures, Buildings and facilities, Hazardous materials transportation, Noise control, Penalties, Railroad employees, Railroad safety, Reporting and recordkeeping requirements.

The Rule

For the reasons discussed in the preamble, FRA amends part 228 of chapter II, subtitle B of title 49, Code of Federal Regulations, as follows:

PART 228—PASSENGER TRAIN EMPLOYEE HOURS OF SERVICE; RECORDKEEPING AND REPORTING; SLEEPING QUARTERS

1. The authority citation for part 228 continues to read as follows:

Authority: 49 U.S.C. 20103, 20107, 21101-21109; Sec. 108, Div. A, Pub. L. 110-432, 122 Stat. 4860-4866, 4893-4894; 49 U.S.C. 21301, 21303, 21304, 21311; 28 U.S.C. 2461, note; 49 U.S.C. 103; and 49 CFR 1.89.

2. In § 228.201, add new paragraph (c) to read as follows:

§ 228.201 Electronic recordkeeping system and automated recordkeeping system; general.

* * * * *

(c) If a railroad, or a contractor or subcontractor to the railroad, is no longer eligible to use an automated recordkeeping system to record data subpart B of this part requires, the entity must begin keeping manual or electronic records and must retain its automated records as required under § 228.9(c) unless the entity requests, and FRA grants, a waiver under § 211.41 of this chapter.

Juan D. Reyes III,
Chief Counsel, Federal Railroad Administration.

[FR Doc. 2018-20150 Filed 9-14-18; 8:45 am]

BILLING CODE 4910-06-P